FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than April 22, 2016.

A. Federal Reserve Bank of Minneapolis (Jacquelyn K. Brunmeier, Assistant Vice President) 90 Hennepin Avenue, Minneapolis, Minnesota 55480-0291:

1. Mark Saliterman, Minnetonka, Minnesota; Michael Morton, Shorewood, Minnesota; Christopher Morton, Chanhassen, Minnesota; Lorilee Morton Wright, Shorewood, Minnesota; Julianne Morton, Chanhassen, Minnesota; and Christopher Morton Trust under Bernard and Margaret Morton GRAT agreement dated 1/1/1996; Mark Saliterman and Christopher Morton co-trustees, the Julianne Morton Samuelson Trust under Bernard and Margaret Morton GRAT agreement dated 1/1/1996; Mark Saliterman and Julianne Samuelson co-trustees, the Michael Morton Trust under Bernard and Margaret Morton GRAT agreement dated 1/1/1996; Mark Saliterman and Michael Morton co-trustees, and the Lorilee Morton Wright Trust under Bernard and Margaret Morton GRAT agreement dated 1/1/1996; Mark Saliterman and Lorilee Wright co-trustees, as members of the Morton family group; to acquire voting shares of Vision Bancshares, Inc., and thereby indirectly acquire voting shares of Vision Bank, both in St. Louis Park, Minnesota.

2. Theodore J. Hofer Family Trust, Freeman, South Dakota (Emily M. Hofer, Freeman, South Dakota, Trustee), and Emily M. Hofer, individually and as trustee of the Theodore J. Hofer Family Trust and the Cynthia L. Hofer Living Trust, Freeman, South Dakota; to retain voting shares of H & W Holding Company, and thereby indirectly retain voting shares of Merchants State Bank, both in Freeman, South Dakota.

Board of Governors of the Federal Reserve System, April 4, 2016.
Michael J. Lewandowski,
Associate Secretary of the Board.

[FR Doc. 2016-07974 Filed 4-6-16; 8:45 am]

BILLING CODE 6210-01-P